DEPARTMENT OF HEALTH AND HUMAN SERVICES

National Institutes of Health

Center for Scientific Review; Amended Notice of Meeting

Notice is hereby given of a change in the meeting of the Center for Scientific Review Special Emphasis Panel, July 14, 2010, 8:30 a.m. to July 15, 2010, 5 p.m., State Plaza Hotel, 2117 E Street, NW., Washington, DC 20037 which was published in the Federal Register on June 14, 2010, 75 FR 33626-33627.

The meeting will be held July 13, 2010 to July 14, 2010. The meeting time and location remain the same. The meeting is closed to the public.

Dated: June 18, 2010.
Anna P. Snouffer,
Deputy Director, Office of Federal Advisory Committee Policy.

[FR Doc. 2010-15313 Filed 6-23-10; 8:45 am]

BILLING CODE 4140-01-P